DEPARTMENT OF COMMERCE

International Trade Administration

(A-201-802)

Gray Portland Cement and Clinker From Mexico; Notice of Amended Final Results of Antidumping Duty Administrative Review

AGENCY: Import Administration, International Trade Administration, Department of Commerce.

ACTION: Notice of Amended Final Results of Antidumping Duty Administrative Review.

SUMMARY: On September 16, 2003, the Department of Commerce published the final results of administrative review of the antidumping duty order on gray portland cement and clinker from Mexico. The review covers one manufacturer/exporter, CEMEX, S.A. de C.V., and its affiliate, GCC Cemento, S.A. de C.V. The period of review is August 1, 2001, through July 31, 2002.

As a result of our analysis of CEMEX's, GCCC's and the petitioner's comments, we are amending the final results of antidumping administrative review.

EFFECTIVE DATE: October 21, 2003.

FOR FURTHER INFORMATION CONTACT: Hermes Pinilla or Brian Ellman, Office of AD/CVD Enforcement 3, Import Administration, International Trade Administration, U.S. Department of Commerce, 14th Street and Constitution Avenue, N.W., Washington, D.C. 20230; telephone: (202) 482-3477 or (202) 482-4852, respectively.

SUPPLEMENTARY INFORMATION:

Background

On September 16, 2003, the Department of Commerce (the Department) published in the Federal Register the final results of the administrative review of the antidumping duty order on gray portland cement and clinker from Mexico (68 FR 54203) (Final Results).

On September 17, 2003, CEMEX, GCCC, and the petitioner filed a timely allegation that the Department made ministerial errors in the Final Results. Specifically, CEMEX and GCCC alleged that (1) the Department's decision to apply adverse facts available to GCCC's further-manufactured cement sales is a ministerial error, (2) the Department's conclusion that GCCC's U.S. affiliate, Rio Grande Materials, Inc., was the only U.S. subsidiary that further-manufactured cement is a ministerial error, (3) the Department made a ministerial error with respect to the calculation of the per-unit cash-deposit rate, and (4) the Department made an ministerial error when it determined the duty-assessment rate by combining the antidumping duties due for sales by CEMEX and GCCC into one weighted-average rate. The petitioner alleged that the Department inadvertently subtracted GCCC's terminal-specific general and administrative expenses from the calculation of U.S. indirect selling expenses. On September 24, 2003, the petitioner and GCCC submitted rebuttal comments in reply to the ministerial-error allegations.

We have reviewed the calculations in the Final Results and find that there are two errors that constitute ministerial errors within the meaning of 19 CFR 351.224(f). We found several of CEMEX's and GCCC's allegations to involve methodological issues rather than ministerial errors and therefore we have not adjusted CEMEX's/GCCC's final antidumping duty margin based on those allegations. For a detailed analysis of the ministerial-error allegations and the Department's position on each, see Memorandum to Jeffrey May, Deputy Assistant Secretary for Import Administration, from Laurie Parkhill, Office Director, Group 1, Office 3, dated October 14, 2003.

Pursuant to section 751(h) of the Tariff Act of 1930, as amended (the Act), we have amended the Final Results by correcting the following errors: (1) the calculation of the per-unit cash-deposit amount and (2) the inclusion of GCCC's terminal-specific indirect selling expense in the calculation of U.S. indirect selling expenses. Correction of these errors changes the final antidumping duty margin from 79.81 percent to 80.75 percent and the per-unit cash-deposit amount from U.S. $61.60 per metric ton to U.S. $52.42 per metric ton. Consequently, we will issue amended cash-deposit instructions to the U.S. Customs and Border Protection (Customs) to reflect the amendment of the final results of review.

Assessment Rates

The Department shall determine, and Customs shall assess, antidumping duties on all appropriate entries. As amended by this determination and in accordance with 19 CFR 351.212(b), we have calculated an exporter/importer-specific assessment rate. For the sales in the United States through the respondents' affiliated U.S. parties, we divided the total dumping margin for the reviewed sales by the total entered value of those reviewed sales. We will direct Customs to assess the resulting percentage margin against the entered customs values for the subject merchandise on each of the entries during the review period (see 19 CFR 351.212(a)).

We are issuing and publishing this determination and notice in accordance with sections 751(h) and 777(i)(1) of the Act.

Dated: October 15, 2003.
James J. Jochum,
Assistant Secretary for Import Administration.

[FR Doc. 03-26531 Filed 10-20-03; 8:45 am]

BILLING CODE 3510-DS-S